DEPARTMENT OF COMMERCE

International Trade Administration

[A-570-831]

Fresh Garlic From the People's Republic of China: Initiation of New Shipper Antidumping Duty Review

AGENCY: Import Administration, International Trade Administration, Department of Commerce.

ACTION: Notice of initiation of new shipper antidumping duty review.

SUMMARY: The Department of Commerce has received a request to conduct a new shipper review of the antidumping duty order on fresh garlic from the People's Republic of China. In accordance with section 751(a)(2)(B) of the Tariff Act of 1930, as amended, and 19 CFR 351.214(d), we are initiating this new shipper review.

EFFECTIVE DATE: January 3, 2001.

FOR FURTHER INFORMATION CONTACT: Edythe Artman or Richard Rimlinger, Import Administration, International Trade Administration, U.S. Department of Commerce, 14th Street and Constitution Avenue, NW., Washington, DC 20230; telephone: (202) 482-0090 or (202) 482-4477, respectively.

The Applicable Statute and Regulations

Unless otherwise indicated, all citations to the Tariff Act of 1930, as amended (the Act), are references to the provisions effective January 1, 1995, the effective date of the amendments made to the Act by the Uruguay Round Agreements Act. In addition, unless otherwise indicated, all references are made to the Department of Commerce's (the Department) regulations at 19 CFR Part 351 (2000).

Background

In a letter dated November 29, 2000, as amended on December 7, 2000, the Department received a request from Clipper Manufacturing Ltd. (Clipper), pursuant to section 751(a)(2)(B) of the Act and in accordance with 19 CFR 351.214(b), for a new shipper review of the antidumping duty order on fresh garlic from the People's Republic of China with respect to fresh garlic sold by Clipper to the United States. This order has a November anniversary month. Accordingly, we are initiating a new shipper review for Clipper as requested. The period of review is June 1, 2000, through November 30, 2000.

Initiation of Review

In accordance with 19 CFR 351.214(b)(2), Clipper provided certification that it did not export fresh garlic from the People's Republic of China to the United States during the period of investigation. Clipper also certified that, since the investigation was initiated, it has never been affiliated with any exporter or producer who exported the subject merchandise to the United States during the period of investigation, including those not individually examined during the investigation. It also submitted documentation establishing the following: (i) The date on which the fresh garlic from the People's Republic of China was first entered or withdrawn from warehouse and the date on which the subject was first shipped to the United States; (ii) the volume of that shipment; and (iii) the date of the first sale to an unaffiliated customer in the United States. Therefore, in accordance with section 751(a)(2)(B)(ii) of the Act and 19 CFR 351.214(d)(1), we are initiating a new shipper review of the antidumping duty order on fresh garlic from the People's Republic of China with respect to fresh garlic sold by Clipper to the United States during the period of review. We intend to issue final results of this review not later than 270 days after the day on which this new shipper review is initiated.

Concurrent with publication of this notice and in accordance with 19 CFR 351.214(e), we will instruct the U.S. Customs Service to allow, at the option of the importer, the posting of a bond or security in lieu of a cash deposit for each entry of the merchandise exported by Clipper until the completion of the review.

The interested parties must submit applications for disclosure under administrative protective order in accordance with 19 CFR 351.305 and 351.306.

This initiation and notice are in accordance with section 751(a)(2)(B)(ii) of the Act and 19 CFR 351.214 and 351.221(c)(1)(i).

Dated: December 26, 2000.
Richard W. Moreland,
Deputy Assistant Secretary for Import Administration.

[FR Doc. 01-125 Filed 1-2-01; 8:45 am]

BILLING CODE 3510-DS-P